DEPARTMENT OF AGRICULTURE

Food Safety and Inspection Service

[FSIS-2023-0024]

National Advisory Committee on Microbiological Criteria for Foods: Public Meeting

AGENCY: Food Safety and Inspection Service (FSIS), Department of Agriculture (USDA).

ACTION: Notice of public meeting.

SUMMARY: This notice is announcing that the National Advisory Committee on Microbiological Criteria for Foods (NACMCF) will hold a virtual public meeting from November 14, 2023, through November 16, 2023. The NACMCF Secretariat will introduce newly appointed members for the 2023-2025 Committee term and introduce a new charge from FSIS on genomic characterization of pathogens. Also, the Committee will continue working on the response to the U.S. Food and Drug Administration's (FDA) Cronobacter spp. in Powdered Infant Formula charge.

DATES: The full Committee will hold a virtual public plenary meeting on Tuesday, November 14, 2023, from 10:00 a.m. to 12:00 p.m. Concurrent virtual public subcommittee meetings will be held on Tuesday, November 14, 2023, from 1:00 p.m. to 4:30 p.m. As well as on Wednesday, November 15, 2023, from 1:00 p.m. to 4:30 p.m. and Thursday, November 16, 2023, from 10:00 a.m. to 12:00 p.m., respectively. Attendance is free but pre-registration by Wednesday, November 8, 2023, is requested.

The deadline to submit written comments is Wednesday, November 8, 2023.

ADDRESSES: The plenary and subcommittee meetings will be held virtually using Webex. Attendees must pre-register at https://ems8.intellor.com/?do=register&t=1&p=849304 to receive a join link, dial-in number, access code, and unique Attendee ID for the plenary and subcommittee meetings. Persons interested in providing comments at the Tuesday, November 14, 2023, plenary meeting should indicate so when registering. Comments will be limited to three minutes per speaker.

An American Sign Language interpreter will be present during the meeting and attendees will also have the option to turn on closed captions.

Written comments may be submitted by one of the following methods:

Federal eRulemaking Portal: This website provides the ability to type short comments directly into the comment field on the web page or attach a file for lengthier comments. Go to https://www.regulations.gov. Follow the on-line instructions at that site for submitting comments.

Mail: Send to Docket Clerk, U.S. Department of Agriculture, Food Safety and Inspection Service, 1400 Independence Avenue SW, Mailstop 3758, Washington, DC 20250-3700.

Hand- or Courier-Delivered Submittals: Deliver to 1400 Independence Avenue SW, Jamie L. Whitten Building, Room 350-E, Washington, DC 20250-3700.

Instructions: All items submitted by mail or electronic mail must include the agency name and docket number FSIS-2023-0024. Comments made in response to the docket will be made available for public inspection and posted without change, including any personal information, to https://www.regulations.gov.

Docket: For access to background documents or comments received, call (202) 937-4272 to schedule a time to visit the FSIS Docket Room at 1400 Independence Avenue SW, Washington, DC 20250.

Agenda: FSIS will finalize an agenda on or before the meeting date and post it on the FSIS web page at https://www.fsis.usda.gov/wps/portal/fsis/newsroom/meetings. Please note that the meeting agenda is subject to change; thus, sessions could end earlier or later than anticipated. Please plan accordingly if you would like to attend this meeting or participate in the public comment period.

The official transcript of the November 14, 2023 plenary meeting, when it becomes available, will be posted on FSIS' website at https://www.fsis.usda.gov/wps/portal/fsis/topics/data-collectionand-reports/nacmcf/meetings/nacmcfmeetings.

FOR FURTHER INFORMATION CONTACT: Kristal Southern, USDA, FSIS, Office of Public Health Science, 1400 Independence Avenue SW, Room 1128, Washington, DC 20250; Email: NACMCF@usda.gov.

SUPPLEMENTARY INFORMATION:

Background

The NACMCF was established in 1988, in response to a recommendation of the National Academy of Sciences for an interagency approach to microbiological criteria for foods, and in response to a recommendation of the U.S. House of Representatives Committee on Appropriations, as expressed in the Rural Development, Agriculture, and Related Agencies Appropriation Bill for fiscal year 1988. The charter for the NACMCF is available for viewing at https://www.fsis.usda.gov/policy/advisory-committees/national-advisory-committee-microbiological-criteria-foods-nacmcf. The NACMCF provides impartial scientific advice and recommendations to the Secretary of Agriculture and the Secretary of Health and Human Services on public health issues relative to the safety and wholesomeness of the U.S. food supply, including development of microbiological criteria and review and evaluation of epidemiological and risk assessment data and methodologies for assessing microbiological hazards in foods. The Committee also provides scientific advice and recommendations to the Departments of Commerce and Defense. The Committee reports to the Secretary of Agriculture through the Under Secretary for Food Safety, the Committee's Chair, and to the Secretary of Health and Human Services through the Assistant Secretary for Health, the Committee's Vice-Chair. Currently, Dr. Emilio Esteban, Under Secretary for Food Safety, USDA, is the Committee Chair; Dr. Donald Prater, Acting Director of the Food and Drug Administration's Center for Food Safety and Applied Nutrition (CFSAN), is the Vice-Chair; and Dr. Kristal Southern, USDA FSIS, is the Director of the NACMCF Secretariat and Designated Federal Officer.

NACMCF documents and comments posted on the FSIS website are electronic conversions from a variety of source formats. In some cases, document conversion may result in character translation or formatting errors. The original document is the official, legal copy. To meet the electronic and information technology accessibility standards in Section 508 of the Rehabilitation Act, NACMCF may add alternate text descriptors for non-text elements (graphs, charts, tables, multimedia, etc.). These modifications only affect the internet copies of the documents. Copyrighted documents will not be posted on FSIS' website but will be available for inspection in the FSIS Docket Room.

Additional Public Notification

Public awareness of all segments of rulemaking and policy development is important. Consequently, FSIS will announce this Federal Register publication online through the FSIS web page located at: http://www.fsis.usda.gov/federal-register. FSIS also will make copies of this publication available through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410;

(2) Fax: (833) 256-1665 or (202) 690-7442; or

(3) Email: program.intake@usda.gov.

USDA is an equal opportunity provider, employer, and lender.

Dated: October 19, 2023.
Cikena Reid,
Committee Management Officer.

[FR Doc. 2023-23636 Filed 10-25-23; 8:45 am]

BILLING CODE 3410-DM-P